DEPARTMENT OF HOMELAND SECURITY

[Docket No. DHS-2022-0032

Privacy Act of 1974; System of Records

AGENCY: Federal Emergency Management Agency, Department of Homeland Security.

ACTION: Notice of a Modified System of Records.

SUMMARY: In accordance with the Privacy Act of 1974, the Department of Homeland Security (DHS) proposes to modify a current DHS system of records titled, “DHS/Federal Emergency Management Agency (FEMA)-006 Citizen Corps Program System of Records” and retitle it, “DHS/FEMA-006 Individual and Community Preparedness Division System of Records.” This system of records allows DHS/FEMA to collect from and maintain records on individuals who contact the agency about their interest in preparedness and specific voluntary programs, register and participate in FEMA's Individual and Community Preparedness Division (ICPD) programs, correspond with community stakeholder organizations, and receive survey responses. DHS/FEMA is updating this System of Records Notice to (1) revise the system name, (2) modify the system location, (3) update the purpose of the system, (4) update the authority for maintenance of the system, (5) revise the category of individuals covered by the system, (6) update the category of records in the system, (7) update record source categories; (8) update record access procedures; and (9) revise and add routine uses. Additionally, this notice includes non-substantive changes to simplify the formatting and text of the previously published notice. This modified system will be included in DHS's inventory of record systems.

DATES: Submit comments on or before December 19, 2022. This modified system will be effective upon publication. New or modified routine uses will be effective December 19, 2022.

ADDRESSES: You may submit comments, identified by docket number DHS-2022-0032 by one of the following methods:

• Federal e-Rulemaking Portal: http://www.regulations.gov. Follow the instructions for submitting comments.

• Fax: 202-343-4010.

• Mail: Lynn Parker Dupree, Privacy Office, Department of Homeland Security, Washington, DC 20528-0655.

Instructions: All submissions received must include the agency name and docket number DHS-2022-0032 All comments received will be posted without change to http://www.regulations.gov, including any personal information provided.

Docket: For access to the docket to read background documents or comments received, go to http://www.regulations.gov.

FOR FURTHER INFORMATION CONTACT: For general questions, please contact: Tammi Hines, (202) 212-5100, FEMA-Privacy@fema.dhs.gov, Senior Director for Information Management, Federal Emergency Management Agency, Department of Homeland Security, Washington, DC 20472. For privacy questions, please contact: Lynn Parker Dupree, (202) 343-1717, Privacy@hq.dhs.gov, Chief Privacy Officer, Privacy Office, Department of Homeland Security, Washington, DC 20528-0655.

SUPPLEMENTARY INFORMATION:

I. Background

This modified System of Records Notice is being published because the Federal Emergency Management Agency (FEMA) collects, maintains, uses, retrieves, and disseminates the personally identifiable information (PII) of individuals who contact the agency about their interest in preparedness and specific voluntary programs, register and participate in FEMA's Individual and Community Preparedness Division (ICPD) programs, correspond with community stakeholder organizations, and receive survey responses to facilitate development of emergency preparedness measures and strengthen collaborations with stakeholders to better prepare individuals and communities to respond to disasters.

The Robert T. Stafford Disaster Relief and Emergency Assistance Act, Public Law 93-288, as amended, at Section 611, 42 U.S.C. 5196(e)(1), authorizes the FEMA Administrator to “study and develop emergency preparedness measures designed to afford adequate protection of life and property, including—research and studies as to the best methods of treating the effects of hazards.”

According to 6 U.S.C. 313(b)(1), “the primary mission of the Agency is to reduce the loss of life and property and protect the nation from all hazards, including natural disasters, acts of terrorism, and other man-made disasters, by leading and supporting the Nation in a risk-based, comprehensive emergency management system of preparedness, protection, response, recovery, and mitigation.”

According to 6 U.S.C. 314(a)(9)(B), the Administrator is required to take leadership in preparedness, by planning, training, and building the emergency management profession to prepare effectively for, mitigate against, respond to, and recover from any hazard.

FEMA's Individual and Community Preparedness Division supports the FEMA mission by connecting individuals, organizations, and communities with research and tools to build and sustain capabilities to prepare for any disaster or emergency. The Individual and Community Preparedness Division conducts research to develop emergency preparedness measures and conducts surveys to better understand effective preparedness actions and ways to motivate the public to take those actions. Through the Individual and Community Preparedness Division, FEMA administers the Citizen Responder Program, which includes Citizen Corps and Community Emergency Response Teams (CERT); the Youth Preparedness Council; the National Household Survey on Disaster Preparedness; the Post-Disaster Survivor Survey Preparedness Research; and the Preparedness Activity Registration and Feedback collection.

Citizen Responder aims to strengthen the collaboration with communities and to enhance their preparation and response to threats of terrorism, crime, public health issues, and disasters of all kinds. As part of this responsibility to help and support emergency response providers, FEMA supports efforts to train and assist in organizing citizen responder programs. Citizen Responder allows the Individual and Community Preparedness Division to analyze program activities, structures, and proper sponsorship. Data collected indicates, at a state, local, tribal, and territorial (SLTT) level, how local grassroots programs help to prepare communities and individuals. This information is required to link members of the public who are interested in getting prepared with organizations in their community that can help.

The Youth Preparedness Council (YPC) brings together youth leaders nationwide who are highly interested and engaged in advocating youth disaster preparedness and making a difference in their communities. Youth applicants, between the ages of 13 and 17, apply to the Youth Preparedness Council in their 8th, 9th, 10th, or 11th grade. Youth Preparedness Council members represent the youth perspective on emergency preparedness and share this information with their communities. FEMA collects information from Youth Preparedness Council applicants in various forms (paper, electronic, video, or web), as well contact information for parents of applicants under the age of 18, and individuals providing recommendations of applicants.

The National Household Survey on Disaster Preparedness identifies progress and gaps in individual and community preparedness and helps FEMA better understand the motivators and barriers to preparedness and specific hazards. The survey measures the public's knowledge, attitudes, and behaviors relative to preparing for a wide range of hazards and is used by FEMA to tailor messaging and public information efforts, community outreach, and strategic planning initiatives.

The Post-Disaster Survivor Preparedness Survey was created after the 2017 hurricane season where Hurricanes Harvey, Irma, and Maria significantly impacted historically underserved communities and illustrated the critical importance of tailoring preparedness and warning information for specific local features, and the need for protective action guidance based on these likely local impacts. This survey helps identify how members of specific communities impacted by disasters prepare, as well as the barriers that prevent underserved individuals and families from being more prepared.

The Preparedness Activity Registration and Feedback collection provides general feedback on the (1) effectiveness of national FEMA preparedness programs and initiatives; (2) website user experience; (3) activity details and other information regarding the type, size, and location of preparedness activities hosted by members of the public and community organizers; (4) point of contact information for registration within the site, follow-on communication, if needed, and future engagement requests that will allow for the public to enroll in the Individual and Community Preparedness Division newsletter or other public communications; and (6) publication ordering via submitting requests to the FEMA publication warehouse to have materials shipped directly to members of the public.

FEMA is updating this System of Records Notice to reflect the following changes. First, the system name is revised to incorporate additional Individual and Community Preparedness Division programs and activities. When the system of records was established, Citizen Corps was the primary program in the Individual and Community Preparedness Division. Since that time, Citizen Corps has become one of many Individual and Community Preparedness Division programs and the purpose of this update is to incorporate all current Individual and Community Preparedness Division collections. The system name has been updated to accurately align with additional Individual and Community Preparedness Division programs.

Second, the system location is updated to accurately reflect the location of the records within the Federal Risk and Authorization Management Program (FedRAMP) approved Salesforce Government Cloud environment, a Software-as-a-Service (SaaS) cloud system located in Salesforce Data Center, Ashburn, VA.

Third, the purpose of the system is updated to document the various preparedness activities, programs, and surveys administered by FEMA, in addition to the Citizen Corp and CERT programs.

Fourth, the authority for maintenance of the system is updated to include FEMA's statutory authority to administer preparedness activities, programs, and surveys.

Fifth, the category of individuals has been revised to include individuals engaging in preparedness programs, in addition to Citizen Corp and CERT programs, and survey respondents for preparedness assessment surveys.

Sixth, the category of records has been updated to include date of birth, race/ethnicity, gender/sex, academic records, letters of recommendation, school grade level and extracurricular activities (for Youth Preparedness Council only; disciplinary records are not requested or required). Other CERT program information has been removed.

Seventh, the record source categories are modified to align with the system's purpose and to include additional sources of records.

Eighth, record access procedures are updated to include notification procedures that reflect FEMA's internal reorganization.

Finally, routine uses are updated to comply with OMB Memorandum M-17-12 requiring disclosure of information necessary to respond to a breach either of the agency's personally identifiable information or, as appropriate, to assist another agency in its response to a breach. The incident-related routine uses will help identify what information was potentially compromised, the population of individuals potentially affected, the purpose for which the information had originally been collected, the permitted uses and disclosures of the information, and other information that may be useful when developing the agency's incident response. Former Routine Use H has been removed from the System of Records Notice. Previous Routine Uses I and J have been combined, re-lettered, and modified to reflect the current name of the program, Citizen Responder and CERT. Routine Use J has been added to account for the use of FEMA data to conduct testing of new technologies, with the exception of Youth Preparedness Council data.

DHS/FEMA may share information with appropriate federal, state, local, tribal, territorial, foreign, or international government agencies, consistent with the routine uses set forth in this System of Records Notice.

This updated system will be included in DHS's inventory of record systems.

II. Privacy Act

The fair information practice principles found in the Privacy Act underpin the statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. Additionally, the Judicial Redress Act (JRA) provides covered persons with a statutory right to make requests for access and amendment to covered records, as defined by the Judicial Redress Act, along with judicial review for denials of such requests. In addition, the Judicial Redress Act prohibits disclosures of covered records, except as otherwise permitted by the Privacy Act.

Below is the description of the DHS/FEMA-006 Individual and Community Preparedness System of Records.

In accordance with 5 U.S.C. 552a(r), DHS has provided a report of this system of records to the Office of Management and Budget and to Congress.

SYSTEM NAME AND NUMBER:

Department of Homeland Security (DHS)/Federal Emergency Management Agency (FEMA)-006 Individual and Community Preparedness System of Records.

SECURITY CLASSIFICATION:

Unclassified.

SYSTEM LOCATION:

Records are maintained at the FEMA Headquarters in Washington, DC, and field offices. Records also are maintained in the Salesforce Government Cloud environment located in Salesforce Data Center, Ashburn, VA.

SYSTEM MANAGER(S):

Individual and Community Preparedness Division (ICPD) Preparedness Behavior Change Branch Chief, 500 C St SW, Washington, DC 20472.

AUTHORITY FOR MAINTENANCE OF THE SYSTEM:

Robert T. Stafford Disaster Relief and Emergency Assistance Act, Public Law 93-288, as amended, Sec. 611, at 42 U.S.C 5196(e); 6 U.S.C. 314(a)(9)(B); 6 U.S.C. 313(b)(1), (b)(2)(H); Exec. Order (E.O.) No. 13254, “Establishing the USA Freedom Corps”, Jan. 29, 2002, as amended by E.O. 13286.

PURPOSE(S) OF THE SYSTEM:

The purpose of this system is to enable FEMA to facilitate contact between individuals, communities, and organizations about their interest in preparedness and specific voluntary programs; enable individuals, communities, and organizations to register and participate in FEMA's Individual and Community Preparedness Division programs; and enable FEMA to correspond with community stakeholder organizations, administer surveys, and receive survey responses. As a whole, these records enable FEMA and the Individual and Community Preparedness Division to connect with individuals, organizations, and communities with research, training, and tools to build and sustain capabilities to prepare for any disaster, hazard, or emergency.

CATEGORIES OF INDIVIDUALS COVERED BY THE SYSTEM:

Individuals designated as the points of contact for a citizen responder team (Community Emergency Response Team (CERT) or Citizen Corps partner organization), members of the public who contact the agency about their interest in preparedness programs, which may include youth between grades 8 and 11, their parents or guardians, or individuals recommending the youth for preparedness programs. This system will also include members of the public who respond to FEMA-administered preparedness assessment surveys.

CATEGORIES OF RECORDS IN THE SYSTEM:

• Individual's Name;

• Organization or Sponsoring Organization;

• Telephone Number;

• Fax Number;

• Mailing Address;

• Email Address;

• Unique User ID (for IT system access);

• Password (for IT system access);

• User Type;

• Date of Birth;

• Race/Ethnicity;

• Gender/Sex;

• Academic Records;

• Letter of Recommendation, including Relationship to Applicant;

• School Grade Level;

• Extracurricular Activities;

• Volunteer Program Area and Type of Interest;

• Emergency Preparedness Training Information (e.g., courses taken and dates of courses);

• Community Preparedness Surveys and Instruments (aggregate self-reported attitudes, opinions and experiences of disasters and preparedness)

RECORD SOURCE CATEGORIES:

FEMA collects information directly from the individuals who contact, correspond with, register for, and participate in FEMA's Individual and Community Preparedness programs.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (DOJ), including the U.S. Attorneys Offices, or other federal agencies conducting litigation or proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity, only when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. secs. 2904 and 2906.

D. To an agency or organization for the purpose of performing audit or oversight operations as authorized by law, but only such information as is necessary and relevant to such audit or oversight function.

E. To appropriate agencies, entities, and persons when (1) DHS suspects or has confirmed that there has been a breach of the system of records; (2) DHS has determined that as a result of the suspected or confirmed breach there is a risk of harm to individuals, DHS (including its information systems, programs, and operations), the Federal Government, or national security; and (3) the disclosure made to such agencies, entities, and persons is reasonably necessary to assist in connection with DHS's efforts to respond to the suspected or confirmed breach or to prevent, minimize, or remedy such harm.

F. To another federal agency or federal entity, when DHS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

H. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

I. To organizations participating, partnering, or affiliated with the Citizen Responder Program if an individual has volunteered to assist or requested information about this specific type of organization.

J. To appropriate federal, state, local, tribal, or foreign governmental agencies or multilateral governmental organizations, with the approval of the Chief Privacy Officer, when DHS is aware of a need to use relevant aggregate, deidentified data, that relate to the purpose(s) stated in this System of Records Notice, for purposes of testing new technology. Data collected through the Youth Preparedness Council will not be used to test new technology.

K. To the news media and the public, with the approval of the Chief Privacy Officer in consultation with counsel, when there exists a legitimate public interest in the disclosure of the information, when disclosure is necessary to preserve confidence in the integrity of DHS, or when disclosure is necessary to demonstrate the accountability of DHS's officers, employees, or individuals covered by the system, except to the extent the Chief Privacy Officer determines that release of the specific information in the context of a particular case would constitute a clearly unwarranted invasion of personal privacy.

POLICIES AND PRACTICES FOR STORAGE OF RECORDS:

DHS/FEMA stores records in this system electronically or on paper in secure facilities in a locked drawer behind a locked door. The records may be stored on magnetic disc, tape, and digital/electronic media.

POLICIES AND PRACTICES FOR RETRIEVAL OF RECORDS:

DHS/FEMA may retrieve records using a system-generated case number associated with a unique application, or by Name, Mailing Address, Email Address, Phone Number, and User ID and password. DHS/FEMA may also retrieve records by non-personal information in aggregate, such as CERTs or survey respondents by county or state location, preparedness events by number of training events held per period-of-time, average positive feedback rating on preparedness surveys, and types of preparedness events and activities conducted by individuals.

POLICIES AND PRACTICES FOR RETENTION AND DISPOSAL OF RECORDS:

Youth Preparedness Council applications are maintained in accordance with National Archives and Records Administration N1-311-86-1, Item 1K1c (Administrative records common to most offices in FEMA). In accordance with N1-311-86-1, Item 1K1c, for enrolled applicants, Youth Preparedness Council application records will be destroyed at the end of the calendar year of the applicant's last year in the program. For applicants that are not enrolled, Youth Preparedness Council application records will be destroyed at the end of calendar year submitted.

For all other Individual and Community Preparedness Division records (e.g., results from surveys) that are not Youth Preparedness Council applications, the records are only retained until they are incorporated into the master file in accordance with NARA General Records Schedule 5.2, Item 20. (Intermediary Records). Individual and Community Preparedness Division staff use the collected data for studies and development of trend analysis. Records are continuously used and monitored and are retained until they are no longer deemed useful for analysis after which the records will be destroyed after another 3 years in accordance with NARA General Records Schedule 5.3, Item 010 (continuity planning and related emergency planning files).

ADMINISTRATIVE, TECHNICAL, AND PHYSICAL SAFEGUARDS:

DHS/FEMA safeguards records in this system according to applicable rules and policies, including all applicable DHS automated systems security and access policies. DHS/FEMA has imposed strict controls to minimize the risk of compromising the information that is being stored. Access to the computer system containing the records in this system is limited to those individuals who have a need to know the information for the performance of their official duties and who have appropriate clearances or permissions.

RECORD ACCESS PROCEDURES:

Individuals seeking access to and notification of any record contained in this system of records, or seeking to contest its content, may submit a request in writing to the Chief Privacy Officer and the FEMA Freedom of Information Act (FOIA) Officer, whose contact information can be found at http://www.dhs.gov/foia under “Contact Information.” If an individual believes more than one component maintains Privacy Act records concerning them, the individual may submit the request to the Chief Privacy Officer and Chief Freedom of Information Act Officer, Department of Homeland Security, Washington, DC 20528-0655 or electronically at https://www.dhs.gov/dhs-foia-privacy-act-request-submission-form. Even if neither the Privacy Act nor the Judicial Redress Act provide a right of access, certain records about you may be available under the Freedom of Information Act.

When an individual is seeking records about themself from this system of records or any other Departmental system of records, the individual's request must conform with the Privacy Act regulations set forth in 6 CFR part 5. The individual must first verify their identity, meaning that the individual must provide their full name, current address, and date and place of birth. The individual must sign the request, and the individual's signature must either be notarized or submitted under 28 U.S.C. 1746, a law that permits statements to be made under penalty of perjury as a substitute for notarization. An individual may obtain more information about this process at http://www.dhs.gov/ foia. In addition, the individual should, whenever possible:

• Explain why they believe the Department would have information being requested;

• Identify which component(s) of the Department they believe may have the information;

• Specify when the individual believes the records would have been created; and

• Provide any other information that will help the FOIA staff determine which DHS component agency may have responsive records;

If the request is seeking records pertaining to another living individual, the request must include an authorization from the individual whose record is being requested, authorizing the release to the requester.

Without the above information, the component(s) may not be able to conduct an effective search, and the individual's request may be denied due to lack of specificity or lack of compliance with applicable regulations.

CONTESTING RECORD PROCEDURES:

For records covered by the Privacy Act or covered Judicial Redress Act records, individuals may make a request for amendment or correction of a record of the Department about the individual by writing directly to the Department component that maintains the record, unless the record is not subject to amendment or correction. The request should identify each particular record in question, state the amendment or correction desired, and state why the individual believes that the record is not accurate, relevant, timely, or complete. The individual may submit any documentation that would be helpful. If the individual believes that the same record is in more than one system of records, the request should state that and be addressed to each component that maintains a system of records containing the record.

NOTIFICATION PROCEDURES:

See “Record Access Procedures” above.

EXEMPTIONS PROMULGATED FOR THE SYSTEM:

None.

HISTORY:

78 FR 43890 (July 22, 2013); 73 FR 77785 (December 19, 2008).

* * * * *

Lynn P. Dupree,
Chief Privacy Officer, Department of Homeland Security.

[FR Doc. 2022-25124 Filed 11-17-22; 8:45 am]

BILLING CODE 9110-17-P